DEPARTMENT OF TRANSPORTATION

Federal Aviation Administration

14 CFR Part 71

[Docket FAA 2005-21078; Airspace Docket 05-ANM-07]

Establishment of Class E Airspace; Eagle, CO

AGENCY: Federal Aviation Administration (FAA), DOT.

ACTION: Final rule.

SUMMARY: This final rule will establish Class E airspace at Eagle, CO. Additional Class E airspace is necessary to accommodate aircraft using a new Instrument Landing System or Localizer Distance Measuring Equipment (ILS or LOC DME) Standard Instrument Approach Procedure (SIAP) at Eagle County Regional Airport. This change is necessary for the safety of Instrument Flight Rules (IFR) aircraft executing the new SIAP at Eagle County Regional Airport, Eagle, CO.

Effective Dates: 0901 UTC, October 28, 2005.

FOR FURTHER INFORMATION CONTACT: Ed Haeseker, Federal Aviation Administration, Western En Route and Oceanic Area Office, Airspace Branch, 1601 Lind Avenue SW., Renton, WA, 98055-4056; telephone (425) 227-2527.

SUPPLEMENTARY INFORMATION:

History

On May 25, 2005, the FAA proposed to amend Title 14 Code of Federal Regulations part 71 (14 CFR part 71) by establishing Class E airspace at Eagle, CO (70 FR 32275). The proposed action would provide additional controlled airspace to accommodate the new ILS or LOC DME SIAP at Eagle County Regional Airport, Eagle, CO. Interested parties were invited to participate in this rule making proceeding by submitting written comments on the proposal to the FAA. No comments were received. Class E airspace designations are published in paragraph 6005 of the FAA Order 7400.9N dated September 1, 2005, and effective September 5, 2005, which is incorporated by reference in 14 CFR part 71.1. The Class E airspace designations listed in this document will be published subsequently in that order.

The Rule

This amendment to 14 CFR part 71 establishes Class E airspace at Eagle, CO, by providing additional controlled airspace for aircraft executing the new ILS or LOC DME SIAP at the Eagle County Regional Airport. This additional controlled airspace extending upward from 700 feet or more above the surface is necessary for the containment and safety of IFR aircraft executing this SIAP procedure and transitioning to/from the en route environment.

The FAA has determined that this regulation only involves an established body of technical regulations for which frequent and routine amendments are necessary to keep the regulations current. Therefore, this regulation: (1) Is not a “significant regulatory action” under Executive Order 12866; (2) is not a “significant rule” under DOT Regulatory Polices and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9N, Airspace Designations and Reporting Points, dated September 1, 2005 and effective September 15, 2005, is amended as follows:

Paragraph 6005. Class E airspace areas extending upward from 700 feet or more above the surface of the earth.

* * * * *

ANM WA E Eagle CO. [New]

Eagle County Regional Airport, CO

(Lat. 39°38′33″ N., long. 106°55′04″ W.)

That airspace extending upward from the surface of the earth within 4.4 mile radius of Eagle County Regional Airport, and within 4.0 miles each side of the 079° radial extending from the 4.4 mile radius to 14 miles northeast of the Eagle County Regional Airport. Class E airspace is effective during the specific dates and times established in advance by a Notice to Airmen. The effective date and time will thereafter be continuously published in the Airport/Facility Directory.

* * * * *

Issued in Seattle, Washington, on September 20, 2005.
R.D. Engelke,
Acting Area Director, Western En Route and Oceanic Operations.

[FR Doc. 05-20463 Filed 10-12-05; 8:45 am]

BILLING CODE 4910-13-M